DEPARTMENT OF THE INTERIOR

National Park Service

[NPS-WASO-PVE-LWCF-12021; WBS#: PSSSLAD0004011]

Proposed Information Collection; Land and Water Conservation Fund State Assistance Program

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on October 31, 2013. We may not conduct or sponsor and a person is not required to respond to a collection of information unless it displays a currently valid OMB control number.

DATES: To ensure that we are able to consider your comments on this IC, we must receive them by April 23, 2013.

ADDRESSES: Send your comments on the IC to Madonna L. Baucum, Information Collection Clearance Officer, National Park Service, 1201 I Street NW., MS 1237, Washington, DC 20005 (mail); or madonna_baucum@nps.gov (email). Please include “1024-0031” in the subject line of your comments.

FOR FURTHER INFORMATION CONTACT: To request additional information about this IC, contact Elisabeth Fondriest, Recreation Grants Chief, State and Local Assistance Programs Division at 202-354-6916; or 1849 C Street NW., (2225), Washington, DC 20240 (mail); or elisabeth_fondriest@nps.gov (email). Please include “1024-0031” in the subject line.

SUPPLEMENTARY INFORMATION:

I. Abstract

The Land and Water Conservation Fund Act of 1965 (LWCF Act) (16 U.S.C. 460l-4 et seq.) was enacted to help preserve, develop, and ensure public access to outdoor recreation facilities. The LWCF Act provides funds for and authorizes Federal assistance to the States for planning, acquisition, and development of needed land and water areas and facilities. As used for this information collection, the term “States” includes the 50 States; the Commonwealths of Puerto Rico and the Northern Mariana Islands; the District of Columbia; and the territories of Guam, the U.S. Virgin Islands, and American Samoa.

In accordance with the LWCF Act, we administer the LWCF State Assistance Program, which provides matching grants to States, and through the States to local units of government. LWCF grants are provided to States on a matching basis for up to 50 percent of the total project-related allowable costs. Grants to eligible insular areas may be for 100 percent assistance. The LWCF State Assistance Program gives maximum flexibility and responsibility to the States. States establish their own priorities and criteria and award their grant money through a competitive selection process based on a Statewide recreation plan. Payments for all projects are made to the State agency that is authorized to accept and administer funds paid for approved projects. Local units of government participate in the program as subgrantees of the State with the State retaining primary grant compliance responsibility.

The information collection requirements associated with the LWCF State Assistance Program are currently approved under five OMB control numbers, all of which expire on October 31. 2013. During our review for this renewal, we identified some other collection requirements that need OMB approval. In this revision of 1024-0031, we are including all of the information collection requirements for the LWCF State Assistance Program. If OMB approves this revision, we will discontinue OMB Control Numbers 1024-0032, 1024-0033, 1024-0034, and 1024-0047. Following are the information collection requirements for the LWCF State Assistance Program, which are discussed in detail in the Land and Water Conservation Fund State Assistance Program Federal Financial Assistance Manual, available online at http://www.nps.gov/ncrc/programs/lwcf/manual/lwcf.pdf:

(1) Statewide Comprehensive Outdoor Recreation Plan (SCORP). The LWCF Act requires that to be eligible for LWCF financial assistance, each State must prepare and submit to NPS for approval a new or revised SCORP at least once every 5 years. The SCORP must include:

• The name of the State agency that will have the authority to represent and act for the State;

• An evaluation of the demand for and supply of outdoor recreation resources and facilities in the State;

• A program for the implementation of the plan;

• Certification by the Governor that ample opportunity for public participation has taken place in plan development; and

• Other necessary information, as may be determined by the Secretary.

(2) Open Project Selection Process (OPSP). Each State must develop an OPSP that provides objective criteria and standards for grant selection that are explicitly based on each State's priority needs for the acquisition and development of outdoor recreation resources as identified in the SCORP. The OPSP is the connection between the SCORP and the use of LWCF grants to assist State efforts in meeting high priority outdoor recreation resource needs. To ensure continuing close ties between the SCORP and the OPSP, States must review project selection criteria each time that a new or amended SCORP is approved by the NPS. States must submit to the NPS a revised set of OPSP criteria that conform to any changes in SCORP priorities or submit an appropriate certification that no such revisions are necessary.

(3) Application. States may seek financial assistance for acquisition, development, or planning projects to be conducted under the LWCF Act. To receive a grant, States must submit an application to NPS for review and approval. Project proposals for LWCF grants comprise the following:

• Proposal Description and Environmental Screening Form (PD/ESF). The PD assists the applicant in developing a narrative that provides administrative and descriptive information to help the Federal decisionmaker understand the nature of the proposed project NPS is being asked to fund. The ESF indicates the resources that could be impacted by the project, enabling States and/or local project sponsors to more accurately follow an appropriate pathway for compliance with the National Environmental Policy Act (NEPA). The analysis serves as part of the Federal administrative record required by NEPA and its implementing regulations.

• Project Agreement (Form 10-902). This form documents the agreement between the NPS and the State for accomplishing the project. It binds the Federal Government and the State to certain obligations through its acceptance of Federal assistance, including the rules and regulations applicable to the conduct of a project under the Act and any special terms and conditions to the project established by the NPS and agreed to by the State. It obligates the United States to provide grants up to a designated amount for eligible costs; sets forth methods of costing, accounting, incurrence of costs, and similar matters. The form also establishes the project performance period and briefly describes the scope of the project. (Currently approved under OMB Control Number 1024-0033.)

• Description and Notification Form (DNF) (Form 10-903). The State must submit a DNF for each project. This form provides data about assisted project sites, such as location, acreages and details about improvements, as understood at the beginning of each project. (Currently approved under OMB Control Number 1024-0031.)

• Pre-award Onsite Inspection Report. The State must physically inspect proposed project sites prior to the award of grant funds and report on the findings. The inspection must be conducted in accord with the onsite inspection agreement between the State and NPS. See additional information under Reports, below. (Currently approved under 1024-0034.)

• Maps and other supporting documentation. Applicants must develop and submit two maps: one depicting the general location of the park as well as the entrance area; the other delineating the boundaries of the outdoor recreation area that will be subject to the conversion provisions of Section 6(f)(3) of the Act. Applicants should submit other documents that have a significant bearing on the project.

(4) Grant Amendments. After initial award but during the award performance period, a State or project sponsor may seek to modify the agreed-upon terms, such as the award end date, the scope of work, or the budget. NPS must review and approve such changes. States must submit an amendment request on behalf of themselves or the local sponsor, which depending on the nature of the change, could comprise the following elements: Amendment to Project Agreement, revised Standard Forms, a letter from the SLO describing the proposed changes and the impact to the project, the PD/ESF, a revised boundary map, and a revised DNF.

• Amendment to Project Agreement (Form 10-902A). An amendment form is required to alter the signed Project Agreement. When the amendment is signed by the NPS, it becomes part of the agreement and supersedes it in the specified matters. (Currently approved under 1024-0033.)

• Description and Notification Form (Form 10-903). A revised DNF may be required for changes in scope that alter the planned facility development or the acreage of the site or area to be protected under 6(f).

(5) Conversions of Use. In accordance with section 6(f)(3) of the Act and as codified in 36 CFR 59, no lands acquired or developed with LWCF funds can be converted to other than public outdoor recreation uses unless the NPS approves. States must submit a formal request to the appropriate NPS Regional Office with documentation to substantiate that: (a) All alternatives to the conversion have been evaluated and then rejected on a sound basis; (b) required replacement land being offered as a substitute is of reasonably equivalent location and recreational usefulness as the assisted sites proposed for conversion; (c) the property proposed for substitution meets the eligibility requirements for LWCF assistance; and (d) replacement property is of at least equal fair market value as established by an appraisal developed in accordance with Federal appraisal standards. Required documentation is similar to that submitted for grant amendment requests. Additional documents include maps identifying the existing 6(f) boundary with the area to be converted, and of the proposed replacement property; and appraisal reports establishing property values. (Currently approved under OMB Control Number 1024-0047.)

(6) Proposal for a Public Facility. Project sponsors must seek NPS approval to construct public indoor or non-recreation facilities within a Section 6(f) area. In most cases, development of such facilities would constitute a conversion, but, in certain cases NPS may approve them where it can be shown that there will be a net gain in outdoor recreation benefits and enhancements for the entire park. The request comprises the PD/ESF, which is used to describe the nature of the facility, how it will support and enhance the outdoor recreation use of the site, and ownership and management; as well as a copy of a proposed revised 6(f) map indicating the location of the proposed facility.

(7) Requests for Temporary Non-Conforming Uses Within Section 6(f)(3) Areas. Project sponsors must seek NPS approval for the temporary (up to 6 months) use of an LWCF-assisted site for purposes that do not conform to the public outdoor recreation requirement. The State's proposal to NPS must include: (a) The PD/ESF (used to describe the proposed temporary use); (b) SLO recommendations; and (c) an acknowledgement by the SLO that a full conversion will result if the temporary use has not ceased after 6 months.

(8) Proposal for a Significant Change of Use. Project sponsors must seek NPS approval to change the use of an assisted site from one eligible use to another when the proposed use significantly contravenes the plans or intent for the area as they were outlined in the original LWCF application for Federal assistance; e.g., changing a site's use from passive to active recreation. The PD/ESF is used for this request.

(9) Proposal to Shelter Facilities. Project sponsors must seek NPS approval to construct new or partially or fully enclose an existing outdoor recreation facility, such as a pool or ice rink to shelter them from cold climatic conditions and thereby increase the recreational opportunities. This approval is required whether seeking to use grant funds for this purpose or not. The PD/ESF is used for this request.

(10) Extension of the 3-year Limit for Delayed Outdoor Recreation Development. Project sponsors must seek NPS approval to continue a non-recreation use beyond the 3-year limit for acquisition projects that were previously approved with delayed outdoor recreation development. The State must submit a written request and justification for such an extension to NPS before the end of the initial 3-year period. This request must include: (a) A full description of the property's current public outdoor recreation resources and the public's current ability to use the property; and (b) an update of the project sponsor's plans and schedule for developing outdoor recreation facilities on the property.

(11) Reports.

• Onsite Inspection Reports. States must administer a regular and continuing program of onsite inspections of projects. Onsite inspection reports are prepared for all inspections conducted and are included in the official project files maintained by the State. Progress onsite inspection reports occur during the project period and are generally combined with the annual performance report or when grant payments are made. Final onsite inspection reports must be submitted to the NPS within 90 days after the date of completing a project and prior to final reimbursement and administrative closeout. Post-completion onsite inspection reports must be completed within 5 years after the final project reimbursement and every 5 years thereafter. If there are problems, the report should include a description of the discrepancy and the corrective action to be taken. Reports indicating problems are forwarded to the NPS for review and necessary action; all other reports are maintained in State files. (Currently approved under OMB Control Number 1024-0034.)

• Financial and Program Performance Reports. In accordance with 43 CFR part 12 (Uniform Administrative Requirements for Grants and Cooperative Agreements to State and Local Governments), grantees must monitor grant and subgrant supported activities to ensure compliance with applicable Federal requirements and that performance goals are being achieved. States must submit reports to NPS at least annually that include performance and financial information. (Currently approved under OMB Control Number 1024-0032.)

(12) Recordkeeping. In accordance with OMB Circular A-102, States must maintain financial records, supporting documents, statistical records, and all other records pertinent to a grant program for a period of 3 years after final payment on a project. The records must be retained beyond the 3 year period if audit findings have not been resolved.

(13) Request for Reimbursement/Record of Electronic Payment. States use the Automated Standard Application for Payments (ASAP) system for drawing funds on approved grants. For planning grants, States must submit to NPS a progress report and request for reimbursement before they may request payments. Acquisition and development projects do not require prior approval, but upon completion of an electronic payment on a given date the State must concurrently (within 24 hours) submit a completed “LWCF Record of Electronic Payment” to the program offices in Washington, DC and their applicable NPS Region.

II. Data

OMB Control Number: 1024-0031.

Title: Land and Water Conservation Fund State Assistance Program, 36 CFR 59.

Service Form Numbers: 10-902, 10-902A, and 10-903.

Type of Request: Revision of a currently approved collection.

Description of Respondents: States; the Commonwealths of Puerto Rico and the Northern Mariana Islands; the District of Columbia; and the territories of Guam, U.S. Virgin Islands, and American Samoa.

Number of Respondents: 56.

Respondent's Obligation: Required to obtain or retain a benefit.

Frequency of Collection: On occasion.

Activity | Number of annual responses | Completion time per response (hours) | Total annual burden hours *
Statewide Comprehensive Outdoor Recreation Plan | 11 | 200 | 2,200
Open Project Selection Process | 11 | 10 | 110
Applications | 250 | 5 | 1,250
Grant Amendments | 180 | 3.5 | 630
Conversions of Use | 50 | 35 | 1,750
Public Facility Requests | 8 | 2 | 16
Requests for Temporary Non-Conforming Uses | 5 | 2 | 10
Request for a Significant Change of Use | 2 | 1 | 2
Request to Shelter Facilities | 1 | 1 | 1
Extension of 3-Year Limit for Delayed Outdoor Recreation Development | 5 | 1 | 5
Onsite Inspection Reports | 4,350 | 1.5 | 6,525
Financial and Program Performance Reports | 660 | 1 | 660
Recordkeeping | 56 | 40 | 2,240
Requests for Reimbursement/Record of Electronic Payment | 325 | .5 | 163
Totals | 5,914 |  | 15,562
* rounded.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: February 15, 2013.
Madonna L. Baucum,
Information Collection Clearance Officer, National Park Service.

[FR Doc. 2013-04119 Filed 2-21-13; 8:45 am]

BILLING CODE 4312-EH-P